DEPARTMENT OF HEALTH AND HUMAN SERVICES

Office of Inspector General

Program Exclusions: March 2004

AGENCY: Office of Inspector General, HHS.

ACTION: Notice of program exclusions.

During the month of March 2004, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name | Address | Effective date
PROGRAM-RELATED CONVICTIONS
ABELL, RICHARD | NEW PORT RICHEY, FL | 4/20/2004
ANZUETO, ROSA | SOUTH GATE, CA | 4/20/2004
ARCIAGA, RECY | FONTANA, CA | 4/20/2004
BONDERER, VIRGINIA | NORWALK, OH | 4/20/2004
BRISBON, TERESA | ATLANTA, GA | 4/20/2004
BROWN, RONALD | ST LOUIS, MO | 4/20/2004
BURGESS, STEPHANIE | CLEVELAND, SC | 4/20/2004
CALIMBAS, JOSELITO | MONROVIA, CA | 4/20/2004
CASTILLO, ELI | LOS ANGELES, CA | 4/20/2004
CASTRO-SANCHEZ, MARLENE | SALT LAKE CITY, UT | 4/20/2004
CLARK, TONYA | LYNCHBURG, VA | 4/20/2004
DALES, CHRISTINA | PIERPORT, OH | 4/20/2004
DANIELS, RUTH | LEXINGTON, KY | 4/20/2004
DOMANTAY, ADELAIDA | LOS ANGELES, CA | 4/20/2004
DOMANTAY, BRUMEO | LOS ANGELES, CA | 4/20/2004
FAN, ALLEN | MONTEREY PARK, CA | 4/20/2004
FAYNGOR, IRINA | LOS ANGELES, CA | 4/20/2004
FLORES, ELIZETTE | N MIAMI, FL | 4/20/2004
FOX, WANDA | DORSET, OH | 4/20/2004
GENOCHIO, CORA | DES MOINES, IA | 4/20/2004
GHOURI, AQEEL | SCARSDALE, NY | 4/20/2004
GRAHAM, LINDA | ASHLAND, WI | 4/20/2004
GUARDADO, SILVIA | LOS ANGELES, CA | 4/20/2004
HAINS, DONALD | NEW ORLEANS, LA | 4/20/2004
HAMILTON, SIDNEY | SANTEE, SC | 4/20/2004
HASTINGS, KATHLEEN | BEAVERCREEK, OH | 4/20/2004
HAUCK, MARLA | WATERTOWN, SD | 4/20/2004
HILL, AMY | THORNVILLE, OH | 4/20/2004
JOHNSON, LAVENDER | MILWAUKEE, WI | 4/20/2004
JOHNSON, PAUL | COLORADO SPRINGS, CO | 4/20/2004
JONES, HARRY | MIAMI, FL | 4/20/2004
KEENER, JODI | BILOXI, MS | 4/20/2004
KIDS HEALTH SERVICES, INC | CORAL SPRINGS, FL | 4/20/2004
KIM, JENNIFER | FORT LEE, NJ | 4/20/2004
LOPEZ, JOSE | LOS ANGELES, CA | 4/20/2004
LOPEZ, MANUEL | MIAMI, FL | 4/20/2004
MACABUHAY, DENNIS | LONG BEACH, CA | 4/20/2004
MATEVOSYAN, GEVORG | LOMPOC, CA | 4/20/2004
OJEDA, ALBERTA | BALDWIN PARK, CA | 4/20/2004
PAPOLCZY, TERESA | ODIN, IL | 4/20/2004
PARKS, SYTALIA | BLACKLICK, OH | 4/20/2004
PASHYAN, ARTAVAZD | LONG BEACH, CA | 4/20/2004
PASTRANA, ZENAIDA | LOS ANGELES, CA | 4/20/2004
REED, DEBORA | ST PAUL, MN | 4/20/2004
RUTHERFORD, HARRY | COLUMBIA, SC | 4/20/2004
SANCHEZ, EDUARDO | MIAMI, FL | 4/20/2004
SCOTT, CARLOS | MIAMI, FL | 4/20/2004
SMITH, COREY | MILWAUKEE, WI | 4/20/2004
STEVENS, JUANITA | COLUMBUS, OH | 4/20/2004
STUART, AARON | SAFETY HARBOR, FL | 4/20/2004
TAYLOR, JOANN | JAMAICA, NY | 4/20/2004
TERMIKAYELYAN, LEVON | LONG BEACH, CA | 4/20/2004
THOMPSON, RHONDA | HOLLY HILL, SC | 4/20/2004
THOMSON, ROBY | PHOENIX, AZ | 4/20/2004
UCHE, HYACINTH | BALTIMORE, MD | 4/20/2004
WEEKS, CHARLOTTE | FRENCH LICK, IN | 4/20/2004
WORRELL, BRENDA | ALDERSON, WV | 4/20/2004
FELONY CONVICTION FOR HEALTH CARE FRAUD
CLAIRMONT, BARBARA | PARMELEE, SD | 4/20/2004
DILLON, ANNETTE | MISSION, SD | 4/20/2004
IRVING, EDWARD | NEWARK, NJ | 4/20/2004
KING, JOSEPH | ST LOUIS, MO | 4/20/2004
LAI, HOAN | FOUNTAIN VALLEY, CA | 4/20/2004
LYNCH, RICHARD | CHARITON, IA | 4/20/2004
MATTSCHECK, KAREN | MARYSVILLE, OH | 4/20/2004
MCKINNEY, EYRERHONDA | HOUSTON, TX | 4/20/2004
MERLI, JEAN | ST LOUIS, MO | 4/20/2004
NAZIR, CARLOS | MIAMI, FL | 4/20/2004
PELSANG, DANIEL | OMAHA, NE | 4/20/2004
VIHINEN, JEFFRIE | LAKE FOREST, CA | 4/20/2004
WEAVER, DEBORAH | TIGARD, OR | 4/20/2004
FELONY CONTROL SUBSTANCE CONVICTION
AGUILAR, SHANNON | FRESNO, CA | 4/20/2004
BOWERS, ANGELA | SAVANNAH, GA | 4/20/2004
CLAWSON, VIRGINIA | ELIZABETHTON, TN | 4/20/2004
COATES, KAREN | DES MOINES, IA | 4/20/2004
CONTE, RICHARD | LOVELOCK, NV | 4/20/2004
COX, LINDA | CORYDON, IA | 4/20/2004
CURTIS, MARY | WAVERLY, TN | 4/20/2004
CURTIS, SHERYL | FT WORTH, TX | 4/20/2004
GIBSON, DAVID | TRINIDAD, CO | 4/20/2004
MEDINNUS, MARK | SAN JOSE, CA | 4/20/2004
MILBAUER, HOWARD | RYE BROOK, NY | 4/20/2004
MILBAUER, MARILYN | RYE BROOK, NY | 4/20/2004
MINOR, KRISTI | APPLETON, WI | 4/20/2004
ORR, TAMARA | ARVADA, CO | 4/20/2004
PACHINGER, ROBERT | KNOXVILLE, TN | 4/20/2004
POLANCO, OFELIA | MOUNT VERNON, WA | 4/20/2004
POWERS, PAULA | ROANOKE, VA | 4/20/2004
ROSSON, HELEN | MCLOUD, OK | 4/20/2004
SAYLOR, JAMES | STATEN ISLAND, NY | 4/20/2004
PATIENT ABUSE/NEGLECT CONVICTIONS
ANTHONY, LAYFE | OWYHEE, NV | 4/20/2004
ATAEE, SHAHAB | ALISO VIEJO, CA | 4/20/2004
BAILEY, KAY | COLORADO SPRINGS, CO | 4/20/2004
BECKER, MARTHA | GRESHAM, OR | 4/20/2004
BENECKE, CHARLES | SIOUX FALLS, SD | 4/20/2004
BOWMAN, TONI | COLUMBUS, GA | 4/20/2004
BUNCH, JIMMY | LAUREL, MS | 4/20/2004
DUNN, WANDA | AKRON, OH | 4/20/2004
EUBANKS, ANDREW | CALHOUN CITY, MS | 4/20/2004
FLOYD, KIMBERLY | CRYSTAL SPRINGS, MS | 4/20/2004
FUGA, GLORIA | WAIPAHU, HI | 4/20/2004
HABIB, DAVID | REDLANDS, CA | 4/20/2004
HASENFUS, MARCIA | MARINETTE, WI | 4/20/2004
HILL, DEONCA | CHICAGO, IL | 4/20/2004
HOSKINS, DONNA | BLACK RIVER FALLS, WI | 4/20/2004
KEELER, BEVERLY | HEIDELBERG, MS | 4/20/2004
KNOLLY, OLIVIA | TOLEDO, OH | 4/20/2004
MARTIN, ANGELA | INDIANOLA, MS | 4/20/2004
NOLDEN, CHRISTOPHER | TUPELO, MS | 4/20/2004
OCLINARIA, DAVID | WAIANAE, HI | 4/20/2004
PIMENTEL, DEBRA | LAS VEGAS, NV | 4/20/2004
POKI, YVETTE | EWA BEACH, HI | 4/20/2004
PULE, BERNADETTE | WAIANAE, HI | 4/20/2004
RIOS, ROBERT | COLLINGA, CA | 4/20/2004
ROGERS, PEGGY | POPLARVILLE, MS | 4/20/2004
ROSS, VICTORIA | DECATUR, AL | 4/20/2004
SMITH, ELIZABETH | BALTIMORE, MD | 4/20/2004
SPROULLS, OLIVIA | BENOIT, MS | 4/20/2004
THOMPSON, KAREN | ANDERSON, SC | 4/20/2004
WALKER, MARY | RIENZI, MS | 4/20/2004
WEATHERS, PEGGY | WEST VALLEY CITY, UT | 4/20/2004
WOLFE, NEAL | THORNTON, CO | 4/20/2004
CONVICTION FOR HEALTH CARE FRAUD
WILLIAMS, CAROL | EMMETT, ID | 4/20/2004
CONTROLLED SUBSTANCE CONVICTIONS
LUNDBERG, FRANCINE | MARATHON, IA | 4/20/2004
LICENSE REVOCATION/SUSPENSION/SURRENDERED
ACREE, CAROLYN | HODGENVILLE, KY | 4/20/2004
ALBERT, SHERILL | BROOKSVILLE, FL | 4/20/2004
ALLBRIGHT, ANGELA | LONGVIEW, TX | 4/20/2004
ANDERSON, DIANA | LEXINGTON, KY | 4/20/2004
ASHBY, ELIZABETH | TACOMA, WA | 4/20/2004
AUGHTRY, PAUL | CLEARWATER, FL | 4/20/2004
BALDWIN, TERRY | WHEAT RIDGE, CO | 4/20/2004
BARR, ALVIN | LUSBY, MD | 4/20/2004
BARTLEY, DEWAYNE | SNEADS FERRY, NC | 4/20/2004
BAUMANN, CAROL | BROOKLYN, MD | 4/20/2004
BECKWITH, CAROLYN | SAINT CLOUD, FL | 4/20/2004
BESSETTE, JILL | BURLINGTON, VT | 4/20/2004
BLAIOTTA, ANTHONY | SAN FRANCISCO, CA | 4/20/2004
BOSWELL, RICHARD | BOYNTON, FL | 4/20/2004
BOWEN, VICKI | GILBERT, AZ | 4/20/2004
BOWSER, PATRICK | ST CLOUD, FL | 4/20/2004
BOYER, TAMMY | CAPE CORAL, FL | 4/20/2004
BOYETTE, RHODA | MAXWELL, IA | 4/20/2004
BROOKS, CAROL | JACKSONVILLE, FL | 4/20/2004
BROWN, VICKI | ONA, FL | 4/20/2004
BURNHAM, BRIAN | E ROCHESTER, OH | 4/20/2004
CAMIQUE, ELISEO | OXNARD, CA | 4/20/2004
CARTER, ALLEN | COPPERTON, UT | 4/20/2004
CASAS, ROBERT | GLENVIEW, IL | 4/20/2004
CHENOWETH, DONOVAN | MOUNTAIN HOME, TN | 4/20/2004
CHOUDHARY, SANDEEP | OAK BROOK TERRACE, IL | 4/20/2004
CHRISTIE, LORETTA | GOODYEAR, AZ | 4/20/2004
CLARK, GLORIA | PENSACOLA, FL | 4/20/2004
COBERN, VERNA | ORANGE BEACH, AL | 4/20/2004
CROMWELL, DANIEL | SUGAR LAND, TX | 4/20/2004
CULLERS, STEPHEN | CHURCHVILLE, VA | 4/20/2004
DAVIS, BONNIE | SEDONA, AZ | 4/20/2004
DAVIS, KATHEY | TOLEDO, OH | 4/20/2004
DAVIS, KIMBERLY | PATASKALA, OH | 4/20/2004
DAVIS, SHEILA DIANE | ATMORE, AL | 4/20/2004
DAWSON, LEROY | POLK CITY, FL | 4/20/2004
DAYTON, LAREE | PHOENIX, AZ | 4/20/2004
DESHARNAIS, JANINE | BONITA SPRINGS, FL | 4/20/2004
DEWITT, LISA | TUCSON, AZ | 4/20/2004
DIETZ, MARIA | TUCSON, AZ | 4/20/2004
DILLON-GEHRIG, IAN | SEATTLE, WA | 4/20/2004
DITTO, KATHY | BRADENTON, FL | 4/20/2004
DUPRAW, ERNEST | STOCKTON, CA | 4/20/2004
FALLICK, HAROLD | ROYAL PALM BEACH, FL | 4/20/2004
FERGUSON, CLEOPHAS | STOCKTON, CA | 4/20/2004
FERNANDEZ, SUSAN | ARCADIA, FL | 4/20/2004
FLOWERS, SHERRI | NEW BRAUNFELS, TX | 4/20/2004
FRASER, MICHAEL | SARASOTA, FL | 4/20/2004
FREDERICKSON, SUSAN | E GREENWICH, RI | 4/20/2004
FRIEDLAND, STEPHEN | PALM CITY, FL | 4/20/2004
FRIEDMAN, LISA | DUBUQUE, IA | 4/20/2004
GARCIA, GERALD | ROCKY FORD, CO | 4/20/2004
GIBSON, WILLIAM | NAPLES, FL | 4/20/2004
GIDDINGS, JOHN | DUARTE, CA | 4/20/2004
GORDON, WENDELL | BENTON, KY | 4/20/2004
GRACIA, MIGDALIA | LANCASTER, PA | 4/20/2004
GRAHAM, JOYCE | PICAYUNE, MS | 4/20/2004
GREEN, JAMES | SIERRA VISTA, AZ | 4/20/2004
GRIGG, DONNA | MT VERNON, IL | 4/20/2004
GROSSI, SUSAN | EDGEWATER, FL | 4/20/2004
HAIR, EDWARD | RALEIGH, NC | 4/20/2004
HAMILTON, KENNETH | SAN BERNARDINO, CA | 4/20/2004
HANRAHAN, GARY | DECATUR, GA | 4/20/2004
HARDT, FRITZ | CASA GRANDE, AZ | 4/20/2004
HARPER, GAIL | BARSTOW, CA | 4/20/2004
HARTMAN, DONNA | MORRISTOWN, TN | 4/20/2004
HAYA, BAB | ANAHEIM, CA | 4/20/2004
HEALTH PARK FLORIDA FITNESS CTR | CAPE CORAL, FL | 4/20/2004
HEIN, JANETTE | MILWAUKEE, WI | 4/20/2004
HERBST, ERIC | ST CLOUD, MN | 4/20/2004
HIGNEY, CATHERINE | MELBOURNE, FL | 4/20/2004
HOBSON, DENISE | GOLDEN, CO | 4/20/2004
HOFSTRAND, CHRISTINE | OMAHA, NE | 4/20/2004
HORTON, WILBUR | ONTARIO, CA | 4/20/2004
HUMPHRIES, SHARON | CHESTER, MD | 4/20/2004
HUNTLEY, MICHAEL | MIAMI, FL | 4/20/2004
Hurd, Lorine | Tampa, FL | 4/20/2004
Hutcherson, Shane | Bloomfield, IN | 4/20/2004
IGLESIAS, MANUEL | MIAMI, FL | 4/20/2004
IRESON, ANGELA | LEBANON, VA | 4/20/2004
IVERSON, JOHN | FORT MYERS, FL | 4/20/2004
JACKSON, QIANA | CORONA, CA | 4/20/2004
JARZYNKA, JOHN | RENO, NV | 4/20/2004
JOHNSON, SHARON | GALVESTON, TX | 4/20/2004
KAHANE, LIOR | STUDIO CITY, CA | 4/20/2004
KAIMAN, FAYE | SARASOTA, FL | 4/20/2004
KELLEY, TIMOTHY | SAN LUIS OBISPO, CA | 4/20/2004
KING, NANCY | MARTINEZ, GA | 4/20/2004
KIRCHHOFER, KIM | YOUNGTOWN, AZ | 4/20/2004
LE JUVENT | PEMBROKE PINES, FL | 4/20/2004
LEDUC, SANDRA | MELBOURNE, FL | 4/20/2004
LEVY, DORA | W PALM BEACH, FL | 4/20/2004
LI, WEISI | ROSLYN HEIGHTS, NY | 4/20/2004
LIPSON, THERESE | SCOTTSDALE, AZ | 4/20/2004
LOMNECK, ERIK | ORLANDO, FL | 4/20/2004
LOPEZ, JOSE | MIAMI, FL | 4/20/2004
MAIONE, JENNIFER | HAUSER, ID | 4/20/2004
MAJERCIN, AMY | STREATOR, IL | 4/20/2004
MARQUETTE, DINA | HOLBROOK, NY | 4/20/2004
MARTINEZ, ALEXANDER | VENTURA, CA | 4/20/2004
MATTHEW, BRIAN | MINNEAPOLIS, MN | 4/20/2004
MCKAHAN, ROBERT | SARASOTA, FL | 4/20/2004
MCNEILL, SCOTT | SAN ANTONIO, TX | 4/20/2004
MERRITT, RICHARD | JACKSONVILLE, FL | 4/20/2004
MILLER, ORAM | FAIRFIELD, IA | 4/20/2004
MINATREA, WILLIAM | MESA, AZ | 4/20/2004
MITCHELL, CHARLOTTE | SALINAS, CA | 4/20/2004
MIXON, PEARLA | ST PETERSBURG, FL | 4/20/2004
MONK, DAVID | HAMPTON COVE, AL | 4/20/2004
MOORE, RACHEL | SOUTH BEND, IN | 4/20/2004
MORRIS, KATHLEEN | HASTINGS, MI | 4/20/2004
MOVIC ENTERPRISES, INC | MIAMI, FL | 4/20/2004
NADA, MOHAMED | HUNTINGTON BEACH, CA | 4/20/2004
NAKAGAWA, WALLACE | WILCOX, AZ | 4/20/2004
NARSESIAN, TERI | WINTER SPRINGS, FL | 4/20/2004
NEELY, SUEANNE | SHELTON, WA | 4/20/2004
NELSON, MICHELLE | PENSACOLA, FL | 4/20/2004
NESBIT, MICHAEL | MUSCATINE, IA | 4/20/2004
NORRIS, DARRELL | HOUSTON, TX | 4/20/2004
NUNEZ, OSCAR | FREMONT, CA | 4/20/2004
OPSAHL, JON | COLTON, CA | 4/20/2004
OXENDINE, SHERBY | KURE BEACH, NC | 4/20/2004
PADILLA, SALLY | ST PETERSBURG, FL | 4/20/2004
PASS, APRIL | CALHOUN, GA | 4/20/2004
PEDERSON, CHRISTIAN | MIRAMAR, FL | 4/20/2004
PERASH, DAVID | LOUISVILLE, TN | 4/20/2004
PETWAY, SHARON | DEFUNIAK SPRINGS, FL | 4/20/2004
POWELL, ANTHONY | DENVER, CO | 4/20/2004
PRATT, ANTHONY | OKLAHOMA CITY, OK | 4/20/2004
QUESINBERRY, ALLYSON | AVONDALE, AZ | 4/20/2004
QUINTERO, MARIA | HIGHLAND, CA | 4/20/2004
RAY, CARMEN | CENTER POINT, AL | 4/20/2004
ROCHE, JERRIE | BATON ROUGE, LA | 4/20/2004
RODRIGUEZ, FLORENTINO | PHOENIX, AZ | 4/20/2004
ROSENTHAL, ERIC | ALGONQUIN, IL | 4/20/2004
RUBEN, JEANETTE | CINCINNATI, OH | 4/20/2004
RUSSO, JAMES | APOPKA, FL | 4/20/2004
SCHMIDT, KAREN | PALM BAY, FL | 4/20/2004
SECONDI, RICHARD | LAKE WORTH, FL | 4/20/2004
SETZER, RONNIE | PINSON, AL | 4/20/2004
SHAFFER, CLINTON | LEHIGH, FL | 4/20/2004
SHEFFER, MELODY | DEBARY, FL | 4/20/2004
SHORT, CATHY | POULSBO, WA | 4/20/2004
SIRACUSA, JOSEPH | LUTZ, FL | 4/20/2004
SKYERS, VASHTI | BRIDGEPORT, CT | 4/20/2004
SLOPNICK, PATRICIA | BARRE, VT | 4/20/2004
SMALHEISER, PAUL | MIAMI, FL | 4/20/2004
SMART, CRAIG | WAYCROSS, GA | 4/20/2004
SMILEY, JIMMY | BELLE GLADE, FL | 4/20/2004
SMITH, MARILYN | CHATTANOOGA, TN | 4/20/2004
SNOW, WARD | BREWER, ME | 4/20/2004
SOJKA, DEE | SACRAMENTO, CA | 4/20/2004
SPICER, JOHN | LA MESA, AZ | 4/20/2004
STAMPER, GLYNN | SPRINGFIELD, IL | 4/20/2004
STIRLING, BEVERLY | SAN BERNARDINO, CA | 4/20/2004
SUTHERLAND, SHANNON | SPOKANE, WA | 4/20/2004
TANCK, ERIC | SHEBOYGAN, WI | 4/20/2004
TATUM-DAVIS, BRIGETTE | SACRAMENTO, CA | 4/20/2004
TAYLOR, HELEN | MOBILE, AL | 4/20/2004
TAYLOR, TYLER | DALLAS, TX | 4/20/2004
TERRELL, BRIAN | TUCSON, AZ | 4/20/2004
THOMAS, LYNDA | TRUSSVILLE, AL | 4/20/2004
THOMAS, SHARTARYA | SOUTH BAY, FL | 4/20/2004
THOMPSON, DIANA | GRAYSLAKE, IL | 4/20/2004
TIMMONS, VICKI | KEOTA, OK | 4/20/2004
TINKLE, JON | W HOLLYWOOD, CA | 4/20/2004
TOWNS, DONNALEE | CORPUS CHRISTI, TX | 4/20/2004
TUCKER, SANDRA | CASA GRANDE, AZ | 4/20/2004
TUTTLE, SHELLEY | CONCORD, NC | 4/20/2004
TYO, STEPHEN | PALM HARBOR, FL | 4/20/2004
UBEROI, SUNNY | MARY ESTHER, FL | 4/20/2004
VAUGHAN, THOMAS | NATCHEZ, MS | 4/20/2004
VIP HEALTH SPA | TAMPA, FL | 4/20/2004
WASHINGTON, DANA | CHARLOTTESVILLE, VA | 4/20/2004
WATKINS, DENISE | NORFOLK, VA | 4/20/2004
WENTZELL, JENNIFER | PINE BUSH, NY | 4/20/2004
WERNER, STEPHANIE | GLEN BURNIE, MD | 4/20/2004
WHARTON, SHARON | PORT CHARLOTTE, FL | 4/20/2004
WILKERSON, LATANYA | BIRMINGHAM, AL | 4/20/2004
WILLIAMS, LINDA | WILSON, NC | 4/20/2004
ZMOLIK, NANCY | ENNIS, TX | 4/1/5396
FRAUD/KICKBACKS
BROWN, RONALD | ST LOUIS, MO | 3/6/2003
OWNED/CONTROLLED BY CONVICTED ENTITIES
ABBA'S LIMO SERVICE, LLC | COLORADO SPRINGS, CO | 4/20/2004
ALLEN T FAN, D D S, INC | MONTEREY PARK, CA | 4/20/2004
CARLOS NAZIR, M D, P A | MIAMI, FL | 4/20/2004
CHARLES C NEAULT, D C | SIMI VALLEY, CA | 4/20/2004
COWAN, INC | VENICE, FL | 4/20/2004
DANIEL STRUB, M D, INC | POWAY, CA | 4/20/2004
DR HAROLD H FALLICK, INC | GREEN ACRES, FL | 4/20/2004
GIBSON DENTAL ASSOC, P A | NAPLES, FL | 4/20/2004
LOW BACK PAIN CLINIC | SIMI VALLEY, CA | 4/20/2004
SIEGFRIED PSYCHOLOGICAL CONSULTANTS | CHASKA, MN | 4/20/2004
WINN KING, INC | COLLEGE PARK, GA | 4/20/2004
DEFAULT ON HEAL LOAN
HALL, TERRY | HURST, TX | 4/20/2004
MCWILLIAMS, PATRICK | SACRAMENTO, CA | 4/20/2004
NOON, JEFFREY | ORLANDO, FL | 4/20/2004
RUSSELL, IRVING | STONE MOUNTAIN, GA | 4/20/2004
SCHLUTER, KATHLEEN | SONOMA, CA | 4/20/2004
VENEGAS, CARLOS | IRVING, TX | 4/20/2004
WARNER, ARTHUR | MILPITAS, CA | 4/20/2004

Dated: April 6, 2004.
Katherine B. Petrowski,
Director, Exclusions Staff, Office of Inspector General.

[FR Doc. 04-8618 Filed 4-20-04; 8:45 am]

BILLING CODE 4150-04-P